DEPARTMENT OF JUSTICE

Antitrust Division

Notice Pursuant to the National Cooperative Research and Production Act of 1993—Test & Diagnostics Consortium, Inc.

Notice is hereby given that, on November 12, 1999, pursuant to section 6(a) of the National Cooperative Research and Production Act of 1993, 15 U.S.C. 4301 et seq. (“the Act”), Test & Diagnostics Consortium, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Advanced Testing Technologies, Inc., Hauppauge, NY; Aeroflex Incorporated, Plainview, NY; Allied Signal Aerospace Canada, Ontario, Canada; DME Corporation, Fort Lauderdale, FL; Freightliner Corporation, Portland, OR; ManTech Test Systems, Incorporated, Fairfax, VA; PEI Electronics Inc., Huntsville, AL; Racal Instruments, Inc., Irvine, CA; Systems & Electronics Inc. (Subsidiary of ESCO), St. Louis, MO; Teradyne, Inc., Boston, MA; and Virginia Panel Corporation, Waynesboro, VA. The nature and objectives of the venture are to conduct joint research activities intended to standardize and improve test and diagnostics systems and equipment used by the Defense, Commercial Airline, Automobile, Trucking, Railroad, Satellite, Maritime Shipping, Medical Device, Telecommunications and Computer industries.

Constance K. Robinson,
Director of Operations, Antitrust Division.

[FR Doc. 00-15600 Filed 6-20-00; 8:45 am]

BILLING CODE 4410-11-M